ENVIRONMENTAL PROTECTION AGENCY

[EPA-HQ-OAR-2008-0699; FRL-9916-24-OAR]

Release of Final Documents Related to the Review of the National Ambient Air Quality Standards for Ozone

AGENCY: Environmental Protection Agency (EPA).

ACTION: Notice of availability.

SUMMARY: The Environmental Protection Agency (EPA) is announcing the availability of three final documents titled Policy Assessment for the Review of the Ozone National Ambient Air Quality Standards (PA); Health Risk and Exposure Assessment for Ozone (HREA); and Welfare Risk and Exposure Assessment for Ozone (WREA). The PA, HREA, and WREA have been prepared by staff in the EPA's Office of Air Quality Planning and Standards (OAQPS) as part of the Agency's ongoing review of the primary (health-based) and secondary (welfare-based) national ambient air quality standards (NAAQS) for ozone (O3). The PA presents analyses and staff conclusions regarding the policy implications of the key scientific and technical information that informs this review of the O3 NAAQS. The HREA and WREA present analyses of O3 exposures and risks.

DATES: The PA, HREA, and WREA will be made available on or about August 29, 2014.

ADDRESSES: These documents will be available primarily via the Internet at the following Web site: http://www.epa.gov/ttn/naaqs/standards/ozone/s_o3_index.html.

FOR FURTHER INFORMATION CONTACT: Ms. Susan Stone, Office of Air Quality Planning and Standards (mail code C504-06), U.S. Environmental Protection Agency, Research Triangle Park, NC 27711; telephone number: 919-541-1146; fax number: 919-541-0237; email address: stone.susan@epa.gov.

SUPPLEMENTARY INFORMATION: Two sections of the Clean Air Act (CAA) govern the establishment and revision of the NAAQS. Section 108 (42 U.S.C. 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which . . . [the Administrator] plans to issue air quality criteria . . .” Air quality criteria are intended to “accurately reflect the latest scientific knowledge useful in indicating the kind and extent of all identifiable effects on public health or welfare which may be expected from the presence of [a] pollutant in the ambient air . . .” 42 U.S.C. 7408(b). Under section 109 (42 U.S.C. 7409), the EPA establishes primary (health-based) and secondary (welfare-based) NAAQS for pollutants for which air quality criteria are issued. Section 109(d) requires periodic review and, if appropriate, revision of existing air quality criteria. The EPA is also required to periodically review and, if appropriate, revise the NAAQS based on the revised criteria. Section 109(d)(2) requires that an independent scientific review committee “shall complete a review of the criteria . . . and the national primary and secondary ambient air quality standards . . . and shall recommend to the Administrator any new . . . standards and revisions of existing criteria and standards as may be appropriate . . .” Since the early 1980's, this independent review function has been performed by the Clean Air Scientific Advisory Committee (CASAC).

Presently, the EPA is reviewing the NAAQS for O3. The PA, HREA, and WREA build upon information presented in the Integrated Science Assessment for Ozone ¹ prepared for this review by the EPA's Office of Research and Development (ORD). Drafts of the PA, HREA, and WREA were reviewed by CASAC, and were commented upon by members of the public, at public meetings held on September 11-13, 2012, and March 25-27, 2014. The CASAC issued final reports on the second drafts of these documents on June 18, 2014 (WREA), June 26, 2014 (PA), and July 1, 2014 (HREA). The final versions of the PA, HREA, and WREA reflect staff's consideration of the comments and recommendations made by CASAC, as well as comments made by members of the public, in its review of the draft versions of these documents. The final PA, HREA, and WREA are available through the Agency's Technology Transfer Network (TTN) Web site at http://www.epa.gov/ttn/naaqs/standards/ozone/s_o3_index.html.

¹ Integrated Science Assessment of Ozone and Related Photochemical Oxidants. U.S. Environmental Protection Agency, Washington, DC. EPA/600/R-10/076F. Available at: http://cfpub.epa.gov/ncea/isa/recordisplay.cfm?deid=247492#Download.

Dated: August 27, 2014.
Mary Henigin,
Acting Director, Office of Air Quality Planning and Standards.

[FR Doc. 2014-21297 Filed 9-5-14; 8:45 am]

BILLING CODE 6560-50-P